ENVIRONMENTAL PROTECTION AGENCY

[FRL-6970-7]

Regulatory Reinvention (XL) Pilot Projects

AGENCY: Environmental Protection Agency (EPA).

ACTION: Notice of availability of the City of Columbus Project XL for Communities final project agreement and related documents.

SUMMARY: EPA is announcing the signing of the Project XL for Communities (XLC) Final Project Agreement (FPA) for the City of Columbus, Ohio.

DATES: The FPA was signed on September 26, 2000.

ADDRESSES: To obtain a copy of the Final Project Agreement, Fact Sheet, or public comments received, contact: Miguel Del Toral, 312-886-5253, US EPA Region 5, Water Division, WD-15J, 77 West Jackson Blvd, Chicago, Illinois 60604-3507 (deltoral.miguel@epa.gov) or Kristina Heinemann, US EPA, Office of Environmental Policy Innovation, 1807, 1200 Pennsylvania Ave., NW., Washington, DC 20460 (heinemann.kristina@epa.gov). The documents are also available via the internet at the following location: http://www.epa.gov/ProjectXL/Columbus/index.htm. In addition, public files on the project are located at the EPA Regional Office in Chicago. Questions to EPA regarding the documents can be directed to Miguel Del Toral at (312) 886-5253 or Kristina Heinemann at (202) 260-5355. Additional information on Project XL, and Project XL for Communities including documents referenced in this notice, other EPA policy documents related to Project XL, Regional and Headquarters contacts, application information and descriptions of existing XL projects and proposals are available via the Internet at http://www.epa.gov/ProjectXL.

SUPPLEMENTARY INFORMATION: The Final Project Agreement is a voluntary agreement developed by the City of Columbus (the project sponsor), the State of Ohio (the Ohio Department of Health and the Ohio Environmental Protection Agency), project stakeholders, and US EPA. Project XL and Project XLC, announced in the Federal Register on May 23, 1995 (60 FR 27282) and November 1, 1995 (60 FR 55569) respectively give regulated sources the opportunity to develop alternative strategies that will replace or modify specific regulatory requirements on the condition that they produce greater environmental benefits. The legal implementing mechanism to be used in this project is described in the project's FPA.

On July 27, 2000, EPA announced the availability of the draft FPA in the Federal Register (65 FR 46166) and requested comments. As a result of that announcement, EPA received one comment from the National Rural Water Association. The comment and EPA's response to it are available from the contacts listed in the ADDRESSES section and on the Project XL website at http://www.epa.gov/ProjectXL/Columbus/index.htm. No other comments were received.

The City of Columbus XLC project will test a potentially more effective means of addressing health concerns from lead through the Lead Safe Columbus Program (LSCP), a program run by the Columbus Departments of Health and Trade and Development, and through closer coordination between the City, the State of Ohio and US EPA on drinking water treatment issues. Through this XLC Project, the US EPA will suspend the Lead Service Line sampling and replacement provisions of the Lead and Copper Rule promulgated under the Safe Drinking Water Act (see 40 CFR 141.84) for up to three years beginning if and when the City exceeds the Lead Action Level, provided this occurs within six years of making a drinking water treatment change. In exchange for this regulatory flexibility, the Columbus Division of Water has committed to contributing $300,000 a year for 15 years to the LSCP. The LSCP provides free blood testing, public education, medical intervention for lead-poisoned children, and grants and loans for lead abatement to residents of Columbus in high-risk areas. The LSCP targets an area consisting of twenty-five high-risk census tracts within ten zip codes in older, predominantly low-income, minority neighborhoods in Columbus, where 84% of all elevated blood lead levels in the City were found.

Dated: April 19, 2001.
Elizabeth A. Shaw,
Director, Office of Environmental Policy Innovation.

[FR Doc. 01-10515 Filed 4-26-01; 8:45 am]

BILLING CODE 6560-50-P